DEPARTMENT OF HEALTH AND HUMAN SERVICES

Request for Information (RFI): Guidance on Data Streamlining and Reducing Undue Reporting Burden for HHS-Funded HIV Prevention, Treatment, and Care Services Grantees

AGENCY: Office of the Secretary, Department of Health and Human Services.

ACTION: Notice.

SUMMARY: The Department of Health and Human Services (HHS) seeks assistance from key stakeholders to identify and address grant-related data flow challenges and offer specific solutions for streamlining data collection and reducing undue burden among HHS grantees funded to provide HIV prevention, treatment, and care services.

DATES: To be assured consideration, comments must be received at one of the addresses provided below, no later than 5:00 p.m. EST on September 21, 2012.

ADDRESSES: Electronic responses are strongly preferred and may be addressed to HIVOpenData@hhs.gov. Written responses should be addressed to: U.S. Department of Health and Human Services, Room 443-H, 200 Independence Ave. SW., Washington, DC 20201. Attention: HIV Data Streamlining.

FOR FURTHER INFORMATION CONTACT: Andrew D. Forsyth Ph.D. or Vera Yakovchenko, MPH, Office of HIV/AIDS and Infectious Disease Policy (OHAIDP), (202) 205-6606.

SUPPLEMENTARY INFORMATION: In July 2010, the White House released the National HIV/AIDS Strategy for the United States (NHAS) that outlined four key goals: (1) Reduce the number of people who become infected with HIV, (2) increase access to care and optimize health outcomes for people living with HIV, (3) reduce HIV-related health disparities, and (4) achieve a more coordinated national response to the HIV epidemic in the United States.¹ Central to the latter goal were two related directives. The first was to develop improved mechanisms to monitor, evaluate, and report on progress toward achieving national goals. The second was to simplify grant administration activities by standardizing data collection and reducing undue grantee reporting requirements for federal HIV programs.

¹ http://www.whitehouse.gov/administration/eop/onap/nhas.

To respond to these directives, on April 11, 2012, the Secretary of Health and Human Services issued a memo directing Operating Divisions and Staff Divisions to achieve three critical goals: (1) Finalize a set of common, core HIV/AIDS indicators in a manner consistent with the Institute of Medicine's recommendations; (2) develop operational plans to deploy core indicators, streamline data collection, and reduce reporting burden by at least 20-25 percent for HHS HIV/AIDS service grantees; and, (3) deploy operational plans within 15 months of reaching consensus on common indicators and their specification. This RFI is intended to elicit stakeholder input on strategies to streamline data collection and reduce undue reporting burden.

The call for improved data streamlining and grants administration simplification described in the NHAS is consistent with other federal initiatives. In December 2009, the White House released its Open Government Directive,² which seeks to improve access to government data in a manner that enhances transparency, fosters participation through the public's contribution of ideas and expertise to decision-making, and enhances collaboration through new partnerships within the federal government and between public and private institutions. Notwithstanding existing clearance requirements or legitimate reasons to protect information, the Directive highlighted the need for the following: (1) Timely and accessible online publication of government information, (2) improved quality of government information, (3) Creation of a culture of open government, and (4) establishment of a policy framework for Open Government. The release of the Directive was followed shortly thereafter by the HHS Open Government Plan,³ which seeks to build upon the White House's emphasis on transparency, collaboration, and collaboration to ensure that the government works better for all Americans.

² http://www.whitehouse.gov/open/documents/open-government-directive.

³ http://www.hhs.gov/open/plan/opengovernmentplan/transparency/dashboard.html.

An important contribution of the HHS Open Government Plan is its reference to new technological developments that make it possible to streamline the collection, sharing, and processing of programmatic and fiscal data in a manner that facilitates greater transparency, participation, and collaboration, even in such critical and sensitive areas as the HHS investment in HIV prevention, treatment, and care services. At present, HHS Operating Divisions (OpDivs) that fund these services use a mixture of non-interoperable information processing systems to collect programmatic, fiscal, and other data from grantees. Moreover, these systems often utilize different indicators to monitor the progress of HIV/AIDS programs that vary in their specifications (e.g., numerators, denominators, time frames) and other key parameters. As a result, many required HIV/AIDS data elements are inconsistent, impede evaluation and monitoring across all relevant HHS-funded services, and add undue burden to HIV services grantees charged with reporting obligations often from multiple HHS OpDivs.

This request for information seeks public comment on potential strategies to streamline data collection and reduce undue reporting burden for HIV prevention, treatment, and care services grantees,⁴ while preserving the capacity to monitor the provision of high quality services. Domains of interest include but are not limited to the following:

⁴ Excluded are surveillance and research grants.

1. Describe to the extent possible the administrative burden that HHS HIV prevention, treatment, and care services grantees experience. Please detail the number of data systems, indicators, elements, numbers of reports, or other quantifiable requirements needed to fulfill current federal HIV reporting obligations.

2. Estimate the time, resources, and personnel costs required on a monthly basis to meet federal HIV grants administration requirements and fulfill reporting obligations. Please rank these requirements in two ways: First, please indicate those that constitute the greatest burden and opportunity cost in terms of limiting the provision of high-quality HIV services. Second, please identify those that provide or have the potential to provide the most benefit for program planning, monitoring, evaluation, or deficiency remediation.

3. Please describe specific recommendations for simplifying grants administration that could address the greatest sources of grantee burden and reduce any associated adverse effects on staff and service provision. What specific changes in federal, state, local, or tribal policies, improvements in public health infrastructure, or other modifications are needed to achieve an optimized balance between data streamlining, reporting burden and outcome monitoring? What specific policies and infrastructure are needed to standardize data requirements at the national, state, and local levels across federal programs supporting HIV/AIDS services?

4. What specific solutions have grantees, sub-grantees, or contractors implemented to manage the administration requirements for data collection, monitoring, and reporting? For example, what tools and strategies have been developed to integrate federal data and reporting requirements, generate reports, monitor local programs, and identify the need for corrective action? What lessons do these hold for how HHS might streamline data collection and lessen administrative burdens for its HIV grantees? And how might the federal government improve the utility of program monitoring data to enhance the efficiency and effectiveness of program services implemented for state, local, and tribal governments?

5. As part of its effort, HHS seeks to reduce by at least 20-25 percent data elements collected for monitoring HIV services. What specific recommendations can you offer for eliminating indicators or data elements without affecting adversely HHS's capacity to monitor outcomes of its HIV grants programs? Please estimate the potential improvements these recommendations would yield in terms of personnel time, costs, or other resources saved.

6. What extant HIV data reporting systems or approaches to data reporting are the most effective, efficient, and acceptable for grantees? What recommendations would you offer for facilitating both data reporting and data sharing between funders and grantees? What data from funders are the highest priorities for grantees to monitor performance, identify services gaps, or otherwise inform resource allocation and program implementation decisions?

7. What approach is recommended for mapping and measuring achievement of reduced HIV reporting burden? Please recommend any relevant publications or reports that may prove illustrative.

Dated: August 8, 2012.
Ronald O. Valdiserri,
Deputy Assistant Secretary for Health, Infectious Diseases.

[FR Doc. 2012-20578 Filed 8-21-12; 8:45 am]

BILLING CODE 4150-28-P